INTERNATIONAL TRADE COMMISSION

[Investigations Nos. 731-TA-540 and 541 (Review)]

Certain Welded Stainless Steel Pipes From Korea and Taiwan

Determinations

On the basis of the record ¹ developed in the subject five-year reviews, the United States International Trade Commission determines, pursuant to section 751(c) of the Tariff Act of 1930 (19 U.S.C. § 1675(c)) (the Act), that revocation of the antidumping duty orders on certain welded stainless steel pipes from Korea and Taiwan would be likely to lead to continuation of recurrence of material injury to an industry in the United States within a reasonably foreseeable time.²

¹ The record is defined in sec. 207.2(f) of the Commission's Rules of Practice and Procedure (19 CFR § 207.2(f)).

² Commissioner Thelma J. Askey dissenting with respect to Korea.

Background

The Commission instituted these reviews on July 1, 1999 (64 FR 35694) and determined on October 1, 1999, that it would conduct full reviews (64 FR 55961, October 15, 1999). Notice of the scheduling of the Commission's reviews and of a public hearing to be held in connection therewith was given by posting copies of the notice in the Office of the Secretary, U.S. International Trade Commission, Washington, DC, and by publishing the notice in Federal Register on March 31, 2000 (64 FR 17308). The hearing was held in Washington, DC, on August 1, 2000, and all persons who requested the opportunity were permitted to appear in person or by counsel.

The Commission transmitted its determinations in these investigations to the Secretary of Commerce on September 22, 2000. The views of the Commission are contained in USITC Publication 3351 (September 2000), entitled Certain Stainless Steel Pipe from Korea and Taiwan: Investigations Nos. 731-TA-540 and 541 (Review).

Issued: September 25, 2000.
By order of the Commission.
Donna R. Koehnke,
Secretary.

[FR Doc. 00-25232 Filed 9-29-00; 8:45 am]

BILLING CODE 7020-02-M